DEPARTMENT OF TRANSPORTATION

Federal Aviation Administration

RTCA Special Committee 205/EUROCAE Working Group 71: Software Considerations in Aeronautical Systems Fourth Joint Plenary Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held September 11-15, 2006, from 8:30 a.m.-4:30 p.m.

ADDRESSES: The meeting will be held at SUPAERO, 10 av. Edouard Belin, Boite Postale 54032, 31055 Toulouse Cedex 4, France.

FOR FURTHER INFORMATION CONTACT: (1) RTCA Secretariat, 1828 L Street, NW., Suite 805, Washington, DC, 20036; telephone (202) 833-9339; fax (202) 833-9434; Web site http://www.rtca.org; (2) Joint Secretaries, Europe: Mr. Ross Hannon, telephone +4478807-46650, e-mail: ross_hannon@binternet.com; U.S.: Mr. Michael DeWalt, telephone (206) 972-0170, e-mail: mike.dewalt@certification.com.

SUPPLEMENTARY INFORMATION: Pursuant to section 10(a)(2) of the Federal Advisory Committee Act (P.L. 92-463, 5 U.S.C., Appendix 2), notice is hereby given for a Special Committee 205/EUROCAE Working Group 71 meeting. Note: On arrival at SUPAERO please have photo identification available (either a passport, a drivers license bearing a photograph or an identity card) to assist in your badge being issued. To attend this meeting please provide the following pre-registration information to both of the Joint Secretaries to assist SUPAERO with their security obligations: Name, Nationality, Passport Number (only provided for security purposes), Organization Name and Nation of Origin (only the organizations location that you work for, regardless of where you're located), Address, Telephone, E-Mail Address.

The agenda will include:

• September 11:

• Sub-group Meetings: Determined by Chairpersons.

• New Members Induction Session.

• September 12:

• Registration.

• Opening Plenary Session (Welcome and Introductory Remarks, Review/Accept Agenda and 1st Joint Plenary Summary).

• SUPAERO Presentation.

• Web site Report.

• Report of Sub-Group Activities.

• Issue List.

• Other Committee/Documents Reports.

• Plenary Text Acceptance Process.

• Presentation—``Functional Safety in Automotive Electronics: The ISO TC22/SC3 Standard.''

• Sub-Group Break Out Sessions.

• September 13:

• Sub-Group Break Out Sessions.

• If required, Sub-Group Joint Sessions (Other Joint Sessions as Required).

• Links between Safety and Security assessment process.

• September 14:

• Stand-Up Plenary Session.

• Sub-Group Break Out Sessions.

• CAST Meeting (Closed Session).

• September 15:

• Reports from Sub-Groups (including Sub-Group Product Outline Tracking).

• Closing Plenary Session (Other Business, Date and Place of Next Meeting, Meeting Evaluation, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on August 14, 2006.
Francisco Estrada C.,
RTCA Advisory Committee.

[FR Doc. 06-7110 Filed 8-23-06; 8:45am]

BILLING CODE 4910-13-M